ENVIRONMENTAL PROTECTION AGENCY

[FRL-9307-01-OAR]

Announcing Upcoming Virtual Meeting on Biofuel Greenhouse Gas Modeling

AGENCY: Environmental Protection Agency (EPA).

ACTION: Notice.

SUMMARY: The Environmental Protection Agency announces an upcoming workshop on biofuel greenhouse gas (GHG) modeling. This is a virtual meeting and open to the public. The purpose of this workshop is to solicit information on the current scientific understanding of greenhouse gas modeling of land-based biofuels used in the transportation sector. The information gathered as part of this workshop will be used to inform a range of current and future actions, including EPA's methodology for quantifying the greenhouse gas emissions under the Renewable Fuels Standard. Through this workshop, we will initiate a public process for getting input on (i) how to incorporate the best available science into an update of our lifecycle analysis (LCA) of biofuels, and (ii) what steps EPA should take next in this work area. The meeting is being conducted by EPA's Office of Transportation and Air Quality in consultation with the U.S. Department of Agriculture and the Department of Energy.

DATES: EPA will hold a virtual public meeting on Monday, February 28, 2022 and Tuesday, March 1, 2022 from 12:00 p.m. to 4:00 p.m. Eastern Standard Time (EST) each day. Please monitor the website https://www.epa.gov/renewable-fuel-standard-program/workshop-biofuel-greenhouse-gas-modeling for any changes to meeting logistics. The final meeting agenda will be posted on the website. In addition, EPA will be accepting comments related to the questions described in the Supplementary Information section below via the federal docketing system. Comments identified by docket ID number: OAR-2021-0921, must be received on or before April 01, 2022.

ADDRESSES: For information on the public meeting or to register to attend, please visit https://www.epa.gov/renewable-fuel-standard-program/workshop-biofuel-greenhouse-gas-modeling. Submit your comments, identified by docket identification (ID) number: OAR-2021-0921, using the Federal eRulemaking Portal at https://www.regulations.gov. Follow the online instructions for submitting comments. Do not electronically submit any information you consider to be Confidential Business Information (CBI) or information whose disclosure is restricted by statute. Comments submitted to the EPA, including any personal information that is in the body of the submission, will be publicly posted to https://www.regulations.gov and are also made available for in-person viewing at the EPA Docket Center's Reading Room. There are some exceptions. Please see additional instructions on commenting or visiting the docket, along with more information about dockets generally, available at http://www.epa.gov/ dockets.

Please note that due to the public health concerns related to COVID-19, the EPA Docket Center (EPA/DC) and Public Reading Room are closed to visitors with limited exceptions. The EPA/DC staff continue to provide remote customer service via email, phone, and webform. For the latest status information on EPA/DC services and docket access, visit https://www.epa.gov/ dockets.

FOR FURTHER INFORMATION CONTACT: Any member of the public who wishes to attend the meeting please visit https://www.epa.gov/renewable-fuel-standard-program/workshop-biofuel-greenhouse-gas-modeling to register for the workshop no later than February 27, 2022.

Further information concerning this public meeting and general information can be found at: https://www.epa.gov/renewable-fuel-standard-program/workshop-biofuel-greenhouse-gas-modeling. Other related inquiries can be directed to Diana Galperin, Office of Transportation and Air Quality, at 202-564-5687 or Galperin.diana@epa.gov.

SUPPLEMENTARY INFORMATION:

Participation in virtual public meetings. Please note that EPA is deviating from its typical approach because the President has declared a national emergency. Because of current CDC recommendations, as well as state and local orders for social distancing to limit the spread of COVID-19, EPA cannot hold in-person public meetings at this time.

For individuals with disabilities: For information on access or services for individuals with disabilities, please email RFSpathways@epa.gov. To request accommodate of a disability, please email RFSpathways@epa.gov, preferably at least 10 business days prior to the meeting, to give EPA as much time as possible to process your request.

Background: Biofuel greenhouse gas modeling is used by EPA and other federal agencies for research and policy decision purposes across a variety of programs. For example, EPA is required to model the lifecycle greenhouse gas emissions of biofuels under the RFS Program when determining whether an individual biofuel meets the greenhouse gas emission reduction requirement established by the Clean Air Act. In addition, EPA is required to more broadly evaluate the greenhouse gas emissions associated with the overall RFS program when setting future volume obligations. Finally, the greenhouse gas emissions of biofuels are an important consideration of emerging policies designed to meet deep decarbonization goals.

This workshop seeks to solicit information on the current scientific understanding of greenhouse gas modeling of land-based biofuels and how this information can be applied to a range of current and future actions. EPA is explicitly seeking comment on the following questions: (1) What sources of data exist and how can they be used to inform the assumptions that drive GHG estimates; (2) how best to characterize the sources of uncertainty associated with quantifying the GHG emissions associated with biofuels; and (3) what model(s) are available to evaluate the lifecycle GHG emissions of land-based biofuels, and do the model(s) meet the Clean Air Act requirements for quantifying the direct and significant indirect emissions from biofuels.

Dated: December 21, 2021.
Sarah Dunham,
Office of Transportation and Air Quality.

[FR Doc. 2021-28079 Filed 12-27-21; 8:45 am]

BILLING CODE 6560-50-P